DEPARTMENT OF TRANSPORTATION

Federal Aviation Administration

RTCA; Joint Special Committee 190/EUROCAE Working Group 52 Software Guidance

Pursuant to section 10(a)(2) of the Federal Advisory Committee Act (Pub. L. 92-463, 5 U.S.C., Appendix 2), notice is hereby given for Joint Special Committee (SC)-190/EUROCAE Working Group (WG)-52 meeting to be held September 18-22, 2000, starting at 10:30 a.m. on September 18. The meeting will be held at Parkhotel St. Leonhard, Uberlingen, Germany.

The agenda will include the following: September 18: 10:30 a.m.-2:00 p.m. (1) Registration; 2:00 p.m.-4:00 p.m. Plenary Session; (2) Welcome and Introductory Remarks; (3) Agenda Overview; (4) Brief EUROCAE/RTCA Status of Second Annual Report Publication; (5) Brief Subgroup Executive Summaries; 4:00 p.m.-5:00 p.m. (6) Subgroup Working Sessions: Software Development Team; Software Verification Team; Special Considerations Team; CNS/ATM Team. September 19: 8:30 a.m.-9:30 a.m. (7) Subgroup Working Sessions continue; (8) Paper Submittals. September 20: 8:30 a.m.-9:30 a.m. (9) Plenary Review and Approval of Available Frequently Asked Questions (FAQs) & Discussion Papers (DPs); (10) CNS/ATM Paper available for review; 9:30 a.m.-5 p.m. (11) Subgroup Working Sessions continue; Paper Submittals. September 21: 8:30-9:30 a.m. (12) Plenary Approval on FAQs & DPs available, 9:30 a.m.-5:00 p.m. (13) Subgroup Working Sessions Continue. (14) Paper Submittals. September 22: 8:30 a.m.-10:30 a.m. (15) Plenary Approval Process continues (remaining and reworked papers); 10:30 a.m. (16) CNS/ATM Report out; (17) Other Business; (18) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (website) or the on-site contacts: Mr. Ross Hannan at 44-118-978-0826 (phone); or Mr. Mike DeWalt at 1-425-788-3347. Members of the public may present a written statement to the committee at any time.

Issued in Washington, DC, on August 21, 2000.
Janice L. Peters,
Designated Official.

[FR Doc. 00-21820 Filed 8-24-00; 8:45 am]

BILLING CODE 4910-13-M